DEPARTMENT OF TRANSPORTATION

Federal Railroad Administration

49 CFR Part 273

[Docket No. FRA-2019-0069, Notice No. 2]

RIN 2130-AC85

Metrics and Minimum Standards for Intercity Passenger Rail Service

AGENCY: Federal Railroad Administration (FRA), U.S. Department of Transportation (DOT).

ACTION: Proposed rule; announcement of public hearing.

SUMMARY: On March 31, 2020, FRA published a notice of proposed rulemaking (NPRM) that proposed metrics and minimum standards for measuring the performance and service quality of intercity passenger train operations. FRA is announcing a public hearing to provide members of the public an opportunity to provide oral comments on the proposal. The public hearing will be held telephonically, instead of in-person.

DATES: The public hearing will be held on April 30, 2020, from 1:00 p.m. (EDT) to 4:00 p.m. (EDT). The comment period for the NPRM published on March 31, 2020, (85 FR 17835) is open through June 1, 2020. Written comments in response to views or information provided at the public hearing must be received by that date.

ADDRESSES: The public hearing will be held telephonically. If you are interested in participating in the public hearing please visit https://railroads.dot.gov/legislation-regulations/regulations-rulemaking/metrics-and-minimum-standards-intercity-passenger. For assistance registering for the public hearing, contact Katie List at Katie.List@dot.gov or (202) 493-0530.

Written comments in response to views or information provided at the public hearing may be submitted by any of the methods listed in the NPRM. See 85 FR 17835.

FOR FURTHER INFORMATION CONTACT: Kristin Ferriter, Office of Railroad Policy and Development, Federal Railroad Administration, 1200 New Jersey Avenue SE, Washington, DC 20590, (202) 493-0197, Kristin.Ferriter@dot.gov.

SUPPLEMENTARY INFORMATION: Members of the public are invited to present oral statements, and to offer information and views about the NPRM at the public hearing. The hearing will be informal and will be conducted by a representative FRA designates under FRA's Rules of Practice (49 CFR 211.25). The hearing will be a non-adversarial proceeding; therefore, there will be no cross examination of persons presenting statements or offering evidence. An FRA representative will make an opening statement outlining the scope of the hearing. After all initial statements are completed those persons wishing to make a brief rebuttal will be given the opportunity to do so in the same order the initial statements were made. FRA will announce additional procedures necessary to conduct the hearing, at the beginning of the hearing. The purpose of this hearing is to receive oral comments in response to an NPRM for metrics and minimum standards for intercity passenger rail service. FRA will add a transcript of the discussions to the public docket in this proceeding.

Public Participation Procedures. Any person wishing to make a statement at the hearing should notify Katie List by telephone or email (Katie.List@dot.gov; (202) 493-0530) at least 5 working days before the date of the hearing and should submit a copy of the oral statement they intend to make at the proceeding (late filers will be accommodated to the extent possible). The notification should identify the party the person represents, the particular subject(s) the person plans to address, and the time requested. The notification should also provide the participant's mailing address and other contact information. FRA reserves the right to limit participation in the hearing of persons who fail to provide such notification. FRA also reserves the right to limit the duration of presentations if necessary to afford as many people as possible the opportunity to speak.

For information on services for persons with disabilities, or to request special assistance in connection with the hearing, contact Kristin Ferriter, by telephone or email, at least 5 working days before the date of the hearing by one of the means listed in the FOR FURTHER INFORMATION CONTACT section.

Privacy Act

Anyone can search the electronic form of any written communications and comments received into any of our dockets by the name of the individual submitting the comment (or signing the document, if submitted on behalf of an association, business, labor union, etc.). See http://www.regulations.gov/#!privacyNotice for the privacy notice of www.regulations.gov. Interested parties may also review DOT's complete Privacy Act Statement in the Federal Register published on April 11, 2000 (65 FR 19477). Under 5 U.S.C. 553(c), DOT solicits comments from the public to better inform its rulemaking process. DOT posts these comments, without edit, including any personal information the commenter provides, to www.regulations.gov, as described in the system of records notice (DOT/ALL-14 FDMS), which can be reviewed at www.dot.gov/privacy.

Issued in Washington, DC, on April 7, 2020.
Brett A. Jortland,
Acting Chief Counsel.

[FR Doc. 2020-07624 Filed 4-10-20; 8:45 am]

BILLING CODE 4910-06-P